Title 3—

The President

Presidential Determination No. 2003-22 of May 6, 2003

Presidential Determination on Eligibility of Serbia and Montenegro to Receive Defense Articles and Services Under the Foreign Assistance Act of 1961, as Amended, and the Arms Export Control Act

Memorandum for the Secretary of State

Pursuant to the authority vested in me by the Constitution and laws of the United States, including by section 503(a) of the Foreign Assistance Act of 1961, as amended, and section 3(a)(1) of the Arms Export Control Act, I hereby find that the furnishing of defense articles and services to Serbia and Montenegro will strengthen the security of the United States and promote world peace.

You are hereby authorized and directed to report this finding to the Congress and to publish it in the Federal Register.

B

THE WHITE HOUSE,

Washington, May 6, 2003.

[FR Doc. 03-12160

Filed 5-13-03; 8:45 am]

Billing code 4710-10-P